DEPARTMENT OF COMMERCE

Foreign-Trade Zones Board

[S-82-2019]

Approval of Subzone Expansion: Mayfield Consumer Products, Mayfield, Kentucky

On May 8, 2019, the Executive Secretary of the Foreign-Trade Zones (FTZ) Board docketed an application submitted by the Paducah McCracken County Riverport Authority, grantee of FTZ 294, requesting an expansion of Subzone 294A subject to the existing activation limit of FTZ 294, on behalf of Mayfield Consumer Products, in Mayfield, Kentucky.

The application was processed in accordance with the FTZ Act and Regulations, including notice in the Federal Register inviting public comment (84 FR 21326, May 14, 2019). The FTZ staff examiner reviewed the application and determined that it meets the criteria for approval. Pursuant to the authority delegated to the FTZ Board Executive Secretary (15 CFR 400.36(f)), the application to expand Subzone 294A was approved on July 18, 2019, subject to the FTZ Act and the Board's regulations, including Section 400.13, and further subject to FTZ 294's 2,000-acre activation limit.

Dated: July 18, 2019.
Elizabeth Whiteman,
Acting Executive Secretary.

[FR Doc. 2019-15719 Filed 7-23-19; 8:45 am]

BILLING CODE 3510-DS-P